NUCLEAR REGULATORY COMMISSION

DEPARTMENT OF ENERGY

Notice of Public Meeting

AGENCY: Nuclear Regulatory Commission (NRC) and Department of Energy (DOE).

ACTION: Notice of public meeting.

SUMMARY: The NRC and DOE announce their intent to conduct a public meeting to discuss interactions during the review of non-high-level waste determinations under the National Defense Authorization Act (NDAA) for Fiscal Year 2005. The meeting date, time and location are listed below:

Date: Thursday, November 16, 2006.

Time: 9 a.m. to 11 a.m.

Location: L'Enfant Plaza Hotel, Meeting Rooms—Monet 1 and 2, 480 L'Enfant Plaza, Washington, DC 20024, phone: 202-484-1000.

Agenda: 9-9:15: Introductions and Opening Remarks. 9:15-10:45: Discussion of NDAA consultation. 10:45-11: Opportunity for Public Comment.

Background

On October 9, 2004, the Ronald W. Reagan National Defense Authorization Act for Fiscal Year 2005 (NDAA) was passed by Congress and was signed by the President on October 28, 2004. Section 3116 of the NDAA allows the U.S. Department of Energy (DOE) to determine that certain waste stemming from reprocessing of spent nuclear fuel is not high-level-waste (HLW). The NDAA is applicable only in the States of South Carolina and Idaho and does not apply to waste transported out of these States. The NDAA requires that: (1) DOE consult with NRC on its waste determinations in South Carolina and Idaho, and (2) NRC, in coordination with the State, monitor disposal actions taken by DOE for the purpose of assessing compliance with NRC regulations in 10 CFR part 61, subpart C. If the NRC determines that any disposal actions taken by DOE are not in compliance, the NDAA requires NRC to inform DOE, the affected State, and congressional subcommittees. The NRC and DOE are holding a public meeting to discuss the efficiency and effectiveness of the consultation process.

As noted on the agenda, time will be set aside during this meeting for observers who wish to make comments. After the meeting, a publicly available summary of this meeting will be made available on the NRC's Agencywide Documents Access and Management System at http://www.nrc.gov.

FOR FURTHER INFORMATION CONTACT: For questions related to this meeting, please contact Anna Bradford at (301) 415-5228 or ahb1@nrc.gov, or Karen Guervara at (301) 903-3339 or karen.guevara@em.doe.gov.

Dated at Rockville, Maryland, this 31st day of October 2006.
For the Nuclear Regulatory Commission.
Scott Flanders,
Deputy Director, Division of Waste Management and Environmental Protection, Office of Federal and State Materials and Environmental Management Programs.
Dated at Washington, DC, this 31st day of October 2006.
For the Department of Energy.
Frank Marcinowski,
Deputy Assistant Secretary, Office of Regulatory Compliance.

[FR Doc. 06-9080 Filed 11-3-06; 8:45 am]

BILLING CODE 7590-01-P